DEPARTMENT OF EDUCATION

[CFDA Nos. 84.184H, 84.184K, 84.184M, 84.184N]

Office of Elementary and Secondary Education—Safe and Drug-Free Schools and Communities—National Programs

AGENCY: Department of Education.

ACTION: Notice reopening the application deadline date for Safe and Drug-Free Schools and Communities Act—National Programs grant competitions.

SUMMARY: On April 6, 2000, the Department published a combined notice inviting applications for new awards for Safe and Drug-Free Schools and Communities National Programs direct grant competitions (65 FR 18188). The Secretary reopens the deadline date for the submission of applications for four of the Safe and Drug-Free Schools and Communities—National Programs grant competitions from May 12, 2000, (May 22, 2000, for CFDA #84.184M) for applicants that can show a shipping label, invoice, or receipt for overnight delivery contracted to arrive by May 12, 2000 (May 22, 2000, for CFDA #84.184M). This action is taken due to unexpected or unavoidable delays in receipt of applications sent via certain overnight delivery services. Competitions affected by this change of application deadline date are CFDA #84.184H, Grant Competition to Prevent High-Risk Drinking and Violent Behavior Among College Students; CFDA #84.184K, Middle School Drug Prevention and School Safety Program Coordinators Grant Competition; CFDA #84.184M, Effective Alternative Strategies: Grant Competition to Reduce Student Suspensions and Expulsions and Ensure Educational Progress of Students who are Suspended or Expelled; and CFDA #84.184N, Alcohol and Other Drug Prevention Models on College Campuses Grant Competition.

DATES: For the competitions listed in this notice, the application deadline date is reopened to June 7, 2000, for applicants able to show a shipping label, invoice, or receipt for overnight delivery contracted to arrive by May 12, 2000 (May 22, 2000, for CFDA #84.184M). The deadline for intergovernmental review is extended to June 26, 2000 for these competitions.

FOR FURTHER INFORMATION CONTACT: Safe and Drug-Free Schools Program, U.S. Department of Education, 400 Maryland Avenue, SW, Washington, DC 20202-6123. Telephone: (202) 260-3954. Individuals who use a telecommunication device for the deaf (TDD) may call the Federal Information Relay Service (FIRS) at (800) 877-8339.

Authority: 20 U.S.C. 7131.

Dated: June 2, 2000.
Michael Cohen,
Assistant Secretary for Elementary and Secondary Education.

[FR Doc. 00-14278 Filed 6-6-00; 8:45 am]

BILLING CODE 4000-01-P